DEPARTMENT OF DEFENSE

Office of the Secretary

Meeting of the Department of Defense Military Family Readiness Council (MFRC); Cancellation of Meeting and Rescheduling of Meeting

AGENCY: Office of the Under Secretary of Defense for Personnel and Readiness, Department of Defense.

ACTION: Notice of meeting cancellation; rescheduling of meeting.

SUMMARY: On October 17, 2012 (77 FR 63805-63806), the Department of Defense Military Family Readiness Council (MFRC) announced a meeting to be held on Tuesday, December 11, 2012, from 1:00 p.m. to 4:00 p.m. at Pentagon Conference Center B6. The meeting on December 11 has been cancelled. The meeting is rescheduled for January 31, 2013, from 1:00 p.m. to 3:00 p.m. at Pentagon Conference Center B6.

DATES: The meeting is rescheduled for January 31, 2013, from 1:00 p.m. to 3:00 p.m.

ADDRESSES: Pentagon Conference Center B6.

FOR FURTHER INFORMATION CONTACT: Ms. Melody McDonald or Ms. Betsy Graham, Office of the Deputy Under Secretary (Military Community & Family Policy), 4800 Mark Center Drive, Alexandria, VA 22350-2300, Room 3G15. Telephones (571) 372-0880; (571) 372-0881 and/or email: FamilyReadinessCouncil@osd.mil.

SUPPLEMENTARY INFORMATION: Pursuant to Section 10(a), Public Law 92-463, as amended, the Department of Defense announces that this meeting is rescheduled to occur on January 31, 2013, due to scheduling issues. The purpose of the Council meeting is to review the military family programs and finalize the Council recommendations that will appear in the Council's Annual Report.

The meeting is open to the public, subject to the availability of space. Persons desiring to attend may contact Ms. Melody McDonald at 571-372-0880 or email FamilyReadinessCouncil@osd.mil no later than 5:00 p.m. on Tuesday, January 22, 2013 to arrange for parking and escort into the conference room inside the Pentagon. Interested persons may submit a written statement for consideration by the Council. Persons desiring to submit a written statement to the Council must notify the point of contact listed in FOR FURTHER INFORMATION CONTACT no later than 5:00 p.m., Tuesday, January 8, 2013.

Dated: November 21, 2012.
Aaron Siegel,
Alternate OSD Federal Register Liaison Officer, Department of Defense.

[FR Doc. 2012-28756 Filed 11-26-12; 8:45 am]

BILLING CODE 5001-06-P